SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 20, 2011.

ADDRESSES: Send all comments regarding whether this information collection is necessary for the proper performance of the function of the agency, whether the burden estimates are accurate, and if there are ways to minimize the estimated burden and enhance the quality of the collection, to Julia Kurnik, Director of Research and Policy, National Women's Business Council, Small Business Administration, 409 3rd Street, Suite 210, Washington, DC 20416.

FOR FURTHER INFORMATION CONTACT: Julia Kurnik, mail to: Director of Research and Policy, National Women's Business Council 202-205-6826, julia.kurnik@nwbc.gov, Curtis B. Rich, Management Analyst, 202-205-7030, curtis.rich@sba.gov.

SUPPLEMENTARY INFORMATION: The National Women's Business Council (NWBC) is a bi-partisan federal advisory council created to serve as an independent source of advice and counsel to the President, Congress and the U.S. Small Business Administration on economic issues of importance to women business owners. The NWBC proposes to conduct a focus group study to probe in-depth issues relating to the gender gap in the grant of U.S. Patents, Trademarks and Copyrights for the time period 1976-2010. One of NWBC's current priorities is to examine in-depth the relationship between intellectual property and women-owned businesses. Very little has been studied in this area, so the NWBC has crafted a study that is both quantitative and qualitative. The quantitative study will use USPTO data on patents and trademarks to determine the number of women entrepreneurs applying for and receiving patents, trademarks and copyrights. The quantitative study will also analyze the differences in the number of women applying for and receiving patents, trademarks and copyrights as compared to men, and will analyze sub-groups of women as well. The qualitative study will probe in-depth the questions raised by the quantitative study as well as those raised by NWBC. Six focus groups will be conducted, two with women participants who have received U.S. patents, trademarks or copyrights, two with women participants who applied for U.S. patents, trademarks or copyrights but did not receive a grant, and two with women participants who have not applied for IP protection.

Title: Focus Groups: Intellectual Property and Women Entrepreneurs.

Description of Respondents: Women who have received U.S. patents, trademarks or copyrights; women who applied for U.S. patents, trademarks or copyrights but did not receive a grant; and women who have not applied for IP protection.

Form Number: N/A.

Annual Responses: 72.

Annual Burden: 144.

Jacqueline White,
Chief, Administrative Information Branch.

[FR Doc. 2011-27239 Filed 10-20-11; 8:45 am]

BILLING CODE; P